DEPARTMENT OF ENERGY

Federal Energy Regulatory Commission

[Docket No. AD19-6-000]

Notice of Availability of Draft Guidance for Horizontal Directional Drill Monitoring, Inadvertent Return Response, and Contingency Plans

The staff of the Office of Energy Projects (OEP) has prepared draft Guidance for Horizontal Directional Drill Monitoring, Inadvertent Return Response, and Contingency Plans (HDD Guidance). Commission staff is asking for comments on the draft HDD Guidance from federal and state agencies, environmental consultants, inspectors, the natural gas industry, construction contractors, and other interested parties with special expertise in regards to preparation of HDD monitoring and contingency plans associated with natural gas projects. Please note that this comment period will close on December 28, 2018.

The draft HDD Guidance is available for public viewing on the Federal Energy Regulatory Commission's (FERC or Commission) website (www.ferc.gov) using the eLibrary link. Click on the eLibrary link, click on General Search, and enter the docket number excluding the last three digits in the Docket Number field (i.e., AD19-6). Be sure you have selected an appropriate date range.

Applicable sections of the Code of Federal Regulations Title 18 are referenced or summarized throughout the draft HDD Guidance. OEP staff is not seeking comment on any existing regulations or contemplating any changes to regulations within the context of the HDD Guidance. Comments pertaining to regulation changes will not be considered as we develop the final HDD Guidance.¹ OEP staff anticipates issuing a final updated version of the HDD Guidance in February 2019. We will consider all timely comments on the draft before issuing the final version.

¹ The HDD Guidance is covered under the information collection requirements of FERC-577 (OMB Control No. 1902-0108).

Interested parties can help us determine appropriate updates and improvements by providing comments or suggestions that focus on the specific sections of the HDD Guidance requiring clarification, updates to reflect current laws and regulations, or additional information that should be included in each resource report. The more specific your comments, the more useful they will be. A detailed explanation of the rationale underlying your suggested modifications and/or any references to scientific studies associated with your comments would greatly help us with this process.

For your convenience, there are three methods you can use to submit your comments to the Commission. In all instances, please reference the docket number (AD19-6-000) with your submission. The Commission encourages electronic filing of comments and has staff available to assist you at FercOnlineSupport@ferc.gov or toll free at (866) 208-3676, or for TTY, contact (202) 502-8659.

(1) You can file your comments electronically using the eComment feature on the Commission's website (www.ferc.gov) under the link to Documents and Filings. This is an easy method for interested persons to submit brief, text-only comments;

(2) You can file your comments electronically using the eFiling feature on the Commission's website (www.ferc.gov) under the link to Documents and Filings. With eFiling, you can provide comments in a variety of formats by attaching them as a file with your submission. New eFiling users must first create an account by clicking on eRegister. You must select the type of filing you are making, select Comment on a Filing; or

(3) You can file a paper copy of your comments by mailing them to the following address. Be sure to reference Docket No. AD19-6-000 on your submission: Kimberly D. Bose, Secretary, Federal Energy Regulatory Commission, 888 First Street NE, Room 1A, Washington, DC 20426.

All of the information related to the proposed updates to the HDD Guidance and submitted comments can be found on the FERC website (www.ferc.gov) using the eLibrary link and docket number (i.e., AD19-6). The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: October 26, 2018.
Kimberly D. Bose,
Secretary.

[FR Doc. 2018-23997 Filed 11-1-18; 8:45 am]

BILLING CODE 6717-01-P